FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Recordkeeping and Disclosure Requirements Associated with the Consumer Financial Protection Bureau's (CFPB) Regulation E (Electronic Fund Transfers) (FR E; OMB No. 7100-0200).

FOR FURTHER INFORMATION CONTACT:

Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements, and approved collection of information instrument(s) are available at https://www.reginfo.gov/public/do/PRAMain. These documents are also available on the Federal Reserve Board's public website at https://www.federalreserve.gov/apps/reportforms/review.aspx or may be requested from the agency clearance officer, whose name appears above.

Final Approval Under OMB Delegated Authority of the Extension for Three Years, Without Revision, of the Following Information Collection

Collection title: Recordkeeping and Disclosure Requirements Associated with the Consumer Financial Protection Bureau's (CFPB) Regulation E (Electronic Fund Transfers).

Collection identifier: FR E.

OMB control number: 7100-0200.

Frequency: Event generated.

Respondents: State member banks and their subsidiaries, subsidiaries of bank holding companies, U.S. branches and agencies of foreign banks (other than federal branches, federal agencies, and insured state branches of foreign banks), commercial lending companies owned or controlled by foreign banks, and organizations operating under section 25 or 25A of the Federal Reserve Act (12 U.S.C. 601-604a; 611-631).

Estimated number of respondents: Recordkeeping, 874; Initial disclosures, 874; Change-in-terms, 874; Periodic statements, 67; Error resolution, 874; Pre-acquisition disclosures (short form disclosure), 5; internet posting and submission of prepaid account agreements, 6; Remittance transfer disclosures, 874; Error resolution for remittance transfers, 874; and Remittance transfers scheduled before the date of transfer, 874.

Estimated average hours per response: Recordkeeping, 0.97; Initial disclosures, 0.03; Change-in-terms, 0.02; Periodic statements, 7; Error resolution, 0.5; Pre-acquisition disclosures (short form disclosure), 4; internet posting and submission of prepaid account agreements, 0.08; Remittance transfer disclosures, 8; Error resolution for remittance transfers, 4.5; and Remittance transfers scheduled before the date of transfer, 8.

Estimated annual burden hours: Recordkeeping, 848; Initial disclosures, 6,555; Change-in-terms, 5,943; Periodic statements, 5,628; Error resolution, 13,110; Pre-acquisition disclosures (short form disclosure), 191; internet posting and submission of prepaid account agreements, 2; Remittance transfer disclosures, 83,904; Error resolution for remittance transfers, 47,196; and Remittance transfers scheduled before the date of transfer, 6,992.

General description of report: The Electronic Fund Transfer Act (EFTA) requires consumers be provided meaningful disclosures about the basic terms, costs, and rights relating to electronic fund transfer (EFT) services involving a consumer's account. The disclosures required by the EFTA are triggered by specific events. The disclosures inform consumers, for example, about the terms of the EFT service, activity on the account, potential liability for unauthorized transfers, and the process for resolving errors.

Legal authorization and confidentiality: The FR E is authorized pursuant to section 904 of the EFTA,¹ which requires that the CFPB prescribe regulations to carry out the purposes of the EFTA, including disclosure and recordkeeping requirements relating to consumer EFT transactions. The FR E is mandatory.

¹ 15 U.S.C. 1693b.

The disclosures and records required under Regulation E are not required to be submitted to the Board, so normally no confidentiality issues would be implicated. To the extent such disclosures and records are obtained by the Board through the examination process, they may be kept confidential under exemption 8 of the Freedom of Information Act, which protects information contained in or related to an examination of a financial institution.²

² 5 U.S.C. 552(b)(8).

Current actions: On July 25, 2022, the Board published an initial notice in the Federal Register (87 FR 44116) requesting public comment for 60 days on the extension, without revision, of the FR E. The comment period for this notice expired on September 23, 2022. The Board did not receive any comments.

Board of Governors of the Federal Reserve System, November 22, 2022.
Michele Taylor Fennell,
Deputy Associate Secretary of the Board.

[FR Doc. 2022-25968 Filed 11-28-22; 8:45 am]

BILLING CODE 6210-01-P